DEPARTMENT OF TRANSPORTATION

Federal Aviation Administration

Flight Data Recorder (FDR) Filtering

AGENCY: Federal Aviation Administration (FAA), DOT.

ACTION: Notice of public meeting.

SUMMARY: This notice announces a public meeting to discuss a recommendation made by the National Transportation Safety Board (NTSB) to the Federal Aviation Administration (FAA) on the issue of filtering flight recorder data before it is recorded. This notice contains the date, times, location, and information for participation in the meeting.

DATES: The meeting will be held Wednesday, July 7, 2004, starting at 8:30 a.m., and ending at 4 p.m.

ADDRESSES: The meeting will be held at the NTSB Main Conference Room, NTSB Headquarters, 490 L'Enfant Plaza, SW., Washington, DC 20594.

FOR FURTHER INFORMATION CONTACT: Technical questions about flight data recorder parameter filtering, and requests to present information at the public meeting should be directed to Timothy W. Shaver, Avionics Systems Branch, Aircraft Certification Service, AIR-130, Federal Aviation Administration, 800 Independence Avenue SW., Washington, DC 20591; telephone (202) 385-4686; facsimile (202) 385-4651; e-mail tim.shaver@faa.gov. For other information, contact Alicia K. Douglas, Aircraft and Airport Rules Division, ARM-200, Federal Aviation Administration, 800 Independence Avenue SW., Washington, DC 20591; telephone (202) 267-9681; facsimile (202) 267-5075; e-mail alicia.k.douglas@faa.gov.

SUPPLEMENTARY INFORMATION:

Background

On November 12, 2001, an Airbus 300-600 experienced a loss of control on initial climbout and crashed into a residential area in Belle Harbor, New York. The NTSB is still investigating this accident. This accident investigation, and other accident investigations, have highlighted some data recording practices that lessen the usefulness of recorded data, and hinder evaluation of the flight control system's performance. As a result, the NTSB issued a letter with three Safety Recommendations, A-03-48 through 50, for changes to the flight data recorder rule for transport category aircraft. The FAA is working to address these recommendations. However, the FAA determined that we need more information from industry about current practices on processing of data as it gets recorded to address Recommendation A-03-50, which states:

“Require that within 2 years, all Airbus A300-600/A310 and Boeing 747-400 airplanes and any other aircraft that may be identified as recording filtered data be retrofitted with a flight data recorder system capable of recording values that meet the accuracy requirements through the full dynamic range of each parameter at a frequency sufficient to determine a complete, accurate, and unambiguous time history of parameter activity, with emphasis on capturing each parameter's dynamic motion at the maximum rate possible, including reversals of direction at the maximum rate possible. (A-03-50)”

Purpose of This Public Meeting

This meeting is being held to discuss the NTSB Safety Recommendation, A-03-50, and the issue of filtering flight recorder data before it is recorded. The purpose of this meeting is to gather information from industry about current practices on processing of data as it gets recorded on all transport airplanes. The FAA is interested in industry's position on the following:

• What data gets filtered before it is recorded, and how the filtering is accomplished.

• How individual manufacturers comply with the required “method for readily retrieving” the recorded data.

• What equipment and procedures would need to be changed, and the costs involved, if the FAA were to adopt the NTSB recommendation as written.

Participation at the Public Meeting

This meeting is open to anyone interested in FDR issues related to the referenced NTSB recommendation. Those attendees wishing to present data on this recommendation must submit the proposed presentation material to Timothy Shaver, Aircraft Certification Service, as listed in the section above, FOR FURTHER INFORMATION CONTACT, by June 28, 2004. Please include contact information for the presenter with the proposal. Also, if the presenter needs audiovisual equipment for the presentation, include information on the equipment required with your request to present; not every form of audiovisual device may be available. Presentation length will be limited to 30 minutes or less depending on the number of requests to present. We will notify presenters of their selection by July 1, 2004. If we receive requests to present after the date specified above, we may add the presentation to the schedule if there is time available during the meeting; however, the presentations and the names of the presenters may not appear on the written agenda.

The FAA will prepare an agenda of speakers and presenters and make the agenda available at the meeting. To accommodate as many speakers as possible, the amount of time allocated to each speaker may be less than the amount of time requested.

Public Meeting Procedures

Persons who plan to attend the meeting should be aware of the following procedures established for this meeting:

1. The will be no admission fee or other charge to attend or to participate in the public meeting.

2. Representatives from the FAA will conduct the public meeting. A panel of FAA experts will be present to ask questions of, and discuss information presented by participants, as appropriate.

3. FAA experts and public participants are expected to engage in a full discussion of all technical material presented at the meetings. Each person presenting conclusions will be expected to submit to the FAA data fully supporting those conclusions; all properly identified proprietary data submitted will be protected by the FAA from disclosure in accordance with applicable laws.

4. Statements made by members of the panel are intended to facilitate discussion of the issues or to clarify issues.

5. The meeting is designed to solicit public views and more complete information relevant to flight data recorder issues related to the NTSB recommendation A-03-50. Therefore, the meeting will be conducted in an informal and nonadversarial manner.

6. Participants must limit their presentations and submissions of data to flight data recorder issues related to the NTSB Recommendation A-03-50.

7. The FAA requests that presenters at the meeting provide 10 copies of all materials to be presented for distribution to the panel members; other copies may be provided to the audience at the discretion of the presenter.

8. The FAA will try to accommodate all speakers; therefore, it may be necessary to limit the time available for an individual or group. If practicable, the meeting may be accelerated to enable adjournment as scheduled.

9. Sign and oral interpretation can be made available at the meeting, as well as an assistive listening device, if requested 10 calendar days before the meeting.

10. The meeting will be recorded by a court reporter. A transcript of the meeting and all material accepted by the panel during the meeting will be made available, on request, unless protected from disclosure. Each person interested in purchasing a copy of the transcript should contact the court reporter directly. This information will be available at the meeting.

Susan J. M. Cabler,
Assistant Manager, Aircraft Engineering Division, Aircraft Certification Service.

[FR Doc. 04-12409 Filed 6-1-04; 8:45 am]

BILLING CODE 4910-13-P